DEPARTMENT OF HEALTH AND HUMAN SERVICES

Centers for Disease Control and Prevention

[60Day-07-0679]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Implementation of an Automated Management Information System (MIS) for the Division for Heart Disease and Stroke Prevention—REVSION—National Center for Chronic Disease Prevention and Health Promotion (NCCDPHP), Centers for Disease Control and Prevention (CDC).

Background and Brief Description

In 1993, the U.S. Congress authorized the Centers for Disease Control and Prevention (CDC) to establish the WISEWOMAN demonstration program to extend the services provided within the National Breast and Cervical Cancer Early Detection Program (NBCCEDP) framework. A subset of the women (those who are 40-64 years of age) who participate in NBCCEDP may also participate in WISEWOMAN. Addressing risk factors such as elevated cholesterol, high blood pressure, obesity, sedentary lifestyle, poor diet, diabetes, and smoking can help reduce a woman's risk of cardiovascular disease-related illness and death.

The Division for Heart Disease and Stroke Division Management Information System will collect in electronic format: (a) Data needed to measure progress by State Heart Disease and Stroke Prevention and WISEWOMAN Programs toward, or achievement of, program performance measures. The respondent population will consist of State Health Department Heart Disease and Stroke Prevention Program Managers and WISEWOMEN Program Managers.

There are no costs to respondents except their time to participate in the survey. Thirty-four respondents from HDSP program and 15 respondents from the WISEWOMAN program will provide input into the proposed system. Respondents reside in each of 39 States, two Tribal organizations, and the District of Columbia.

Estimated Annualized Burden Hours
Respondents | Number of respondents | Number of responses per respondent | Average burden per response (in hours) | Total burden (in hours)
State Health Officials | 49 | 2 | 6 | 588

Dated: August 10, 2007.
Maryam I. Daneshvar,
Acting Reports Clearance Officer, Centers for Disease Control and Prevention.

[FR Doc. E7-16120 Filed 8-15-07; 8:45 am]

BILLING CODE 4163-18-P